DEPARTMENT OF HEALTH AND HUMAN SERVICES

Centers for Disease Control and Prevention

[30Day-08-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: An Evaluation Survey on the Use and Effectiveness of Internet SAMMEC—N—National Center for Chronic Disease Prevention and Health Promotion (NCCDPHP), Centers for Disease Control and Prevention (CDC).

Since 1987, the Centers for Disease Control and Prevention (CDC) has used the Smoking-Attributable Mortality, Morbidity, and Economic Costs (SAMMEC) software to estimate the disease impact of smoking for the nation, states, and large populations. The Internet version of the SAMMEC software was released in 2002, and it contains two distinct computational programs, Adult SAMMEC and Maternal and Child Health (MCH) SAMMEC, which can be used to estimate the adverse health outcomes and disease impact of smoking on adults and infants.

More than 1230 tobacco control professionals in the State health departments and other tobacco control institutions in the country are currently using Internet SAMMEC to generate the data they need for their projects. Some of them have provided comments and sent requests for assistance. The purpose of this survey is to evaluate the use and effectiveness of the SAMMEC software and identify ways to improve the system so that it will better meet the needs of the users in tobacco control and prevention. The annualized burden for this data collection is 250 hours.

Respondents | No. of respondents | No. of responses/respondent | Average burden/response (in hours)
Tobacco Control Professionals/Internet SAMMEC users | 1000 | 1 | 15/60

Dated: January 7, 2004.
Alvin Hall,
Director, Management Analysis and Services Office, Centers for Disease Control and Prevention.

[FR Doc. 04-770 Filed 1-13-04; 8:45 am]

BILLING CODE 4163-18-P